FEDERAL COMMUNICATIONS COMMISSION

[FRS 17414]

Radio Broadcasting Services; AM or FM Proposals To Change the Community of License

AGENCY: Federal Communications Commission.

ACTION: Notice.

DATES: The agency must receive comments on or before April 13, 2021.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: GRUNDY COUNTY BROADCASTERS, INC., WCSJ(AM), Fac. ID No. 17039, From MORRIS, IL, To SOMONAUK, IL, File No. BP-20201215AAA; BOARD OF TRUSTEES, UNIVERSITY OF FLORIDA, WUFQ(FM), Fac. ID No. 121772, From CROSS CITY, FL, To ARCHER, FL, File No. 0000125336; and TOWNSQUARE MEDIA OF FT. COLLINS, INC, KKPL(FM), Fac. ID No. 54394, From CHEYENNE, WY, To LAPORTE, CO, File No. 0000129172. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2021-02836 Filed 2-11-21; 8:45 am]

BILLING CODE 6712-01-P